DEPARTMENT OF TRANSPORTATION

Federal Aviation Administration

[Docket No. FAA-2003-15745]

High Density Airports; Notice of Reagan Washington National Airport Lottery Allocation Procedures

AGENCY: Federal Aviation Administration.

ACTION: Notice rescheduling the date of the lottery to allocate slots at Reagan Washington National Airport.

SUMMARY: This action reschedules the Federal Aviation Administration (FAA) lottery for the allocation of limited air carrier and commuter slots at Reagan Washington National Airport (DCA). The lottery was originally scheduled for July 31, 2003, and is rescheduled for August 12, 2003.

DATES: July 31, 2003.

Date/Location of Lottery: The lottery will be held in the Federal Aviation Administration (FAA) Auditorium, 3rd floor, 800 Independence Avenue, SW., Washington, DC 20591, on August 12, 2003, beginning at 1 p.m.

FOR FURTHER INFORMATION CONTACT: Lorelei Peter, Operations and Air Traffic Law Branch, Regulations Division, Office of the Chief Counsel, Federal Aviation Administration, 800 Independence Avenue, SW., Washington, DC 20591; telephone number 202-267-3134.

SUPPLEMENTARY INFORMATION:

Background

On July 9, 2003, the FAA published in the Federal Register a notice of lottery and allocation procedures for a limited number of air carrier and commuter slots at DCA (68 FR 41037). A clarification regarding the applicable regulatory definition of a limited incumbent carrier was published on July 18, 2003 (68 FR 42796).

The FAA has received comments and questions regarding the lottery procedures and the application of the regulatory definitions of a new entrant carrier and a limited incumbent carrier for this lottery. Copies of documents related to the lottery, including submissions from the carriers requesting to participate in the lottery and letters regarding certain lottery procedures and carrier eligibility questions, have been placed in the docket for this matter, FAA-2003-15745. On July 24, 2003, the FAA notified carriers operating at DCA and other interested parties of the open docket and provided that if any party sought to comment on the lottery or any issues raised by the documents in the docket, it should do so by 12 p.m. on July 28, 2003.

We have reviewed the comments in the docket and find that several issues regarding carrier eligibility to participate and the lottery procedures have been raised. The FAA finds it necessary to delay the lottery for a short period of time to properly resolve these concerns. The FAA will issue a subsequent notice in the Federal Register that responds to the comments and lists the carriers eligible to participate in the lottery and their respective category of participation.

This notice does not reopen the notification deadline for carriers not operating at DCA to request participation in the lottery.

Issued on July 31, 2003, in Washington, DC.
James W. Whitlow,
Deputy Chief Counsel.

[FR Doc. 03-20192 Filed 8-7-03; 8:45 am]

BILLING CODE 4910-13-M